DEPARTMENT OF THE TREASURY

Internal Revenue Service

26 CFR Part 1

[REG-124667-02]

RIN 1545-BA78

Disclosure of Relative Values of Optional Forms of Benefit

Correction

In proposed rule document 02-25338 beginning on page 62417 in the issue of Monday, October 7, 2002, make the following correction:

§ 1.417(a)(3)-1 [Corrected]

On page 62425, in § 1.417(a)(3)-1, the table is being republished in its entirety.

Age 55 Commencement
Optional form | Amount of distribution per $1,000 of immediate single life annuity | Relative value
Life Annuity | $1,000 per month | Approximately the same value as the OJSA.
QJSA (joint and 75% survivor annuity) | $956 per month | n/a.
Joint and 100% survivor annuity | $886 per month | Approximately the same value as the QJSA.
Lump sum | $165,959 | Approximately the same value as the QJSA.

Age 60 Commencement
Optional form | Amount of distribution per $1,000 of immediate single life annuity | Relative value
Life Annuity | $1,000 per month | Approximately 94% of the value of the QJSA.
QJSA (joint and 75% survivor annuity) | $945 per month | n/a.
Joint and 100% survivor annuity | $859 per month | Approximately 94% of the value of the QJSA.
Lump sum | $151,691 | Approximately the same value as the QJSA.

Age 65 Commencement
Optional form | Amount of distribution per $1,000 of immediate single life annuity | Relative value
Life Annuity | $1,000 per month | Approximately 93% of the value of the QJSA.
QJSA (joint and 75% survivor annuity) | $932 per month | n/a.
Joint and 100% survivor annuity | $828 per month | Approximately 93% of the value of the QJSA.
Lump sum | $135,759 | Approximately 93% of the value of the QJSA.

[FR Doc. C2-25338 Filed 12-9-02; 8:45 am]

BILLING CODE 1505-01-D